ENVIRONMENTAL PROTECTION AGENCY

[FRL-7774-9]

Final Issuance of General NPDES Permits for Small Publicly Owned Treatment Works (POTWs) and Other Small Treatment Works Treating Domestic Sewage in Alaska (NPDES Permits Nos. AKG-57-0000, and AKG-57-1000)

AGENCY: Environmental Protection Agency (EPA).

ACTION: Final Notice of issuance of two general NPDES permits.

SUMMARY: On September 26, 2003, EPA proposed to issue general National Pollutant Discharge Elimination System (NPDES) permits for small POTWs and other small treatment works treating domestic sewage in Alaska pursuant to the provisions of the Clean Water Act (CWA) 33 U.S.C. 1251 et seq. One general permit is applicable to those facilities discharging to marine waters (NPDES Permit Number AKG-57-1000) while the second general permit is applicable to facilities discharging to fresh waters (AKG-57-0000). There was a forty-five day public notice period during which written comments on the draft permits were submitted to EPA. During the comment period, EPA received fifteen comment letters on the general permits.

DATES: The general permits will be effective July 21, 2004.

ADDRESSES: Copies of the general permits and Response to Comments are available upon request. Written requests may be submitted to EPA, Region 10, 1200 Sixth Avenue OW-130, Seattle, WA 98101. Electronic requests may be mailed to: washington.audrey@epa.gov or lidgard.michael@epa.gov.

FOR FURTHER INFORMATION CONTACT: Copies of the general permits, Fact Sheet and Response to Comments are available upon request. Requests may be made to Audrey Washington at (206) 553-0523 or to Michael Lidgard at (206) 553-1755. Requests may also be electronically mailed to: washington.audrey@epa.gov or lidgard.michael@epa.gov. These documents may also be found on the EPA Region 10 Web site at www.epa.gov/r10earth/ then click on Water Quality, Permits (under NPDES) and then on recently issued permits under EPA Region 10 Information.

SUPPLEMENTARY INFORMATION:

Executive Order 12866

The Office of Management and Budget has exempted this action from the review requirements of Executive Order 12866 pursuant to section 6 of that order. On May 24, 2004, The State of Alaska, Department of Environmental Conservation (ADEC), certified that the subject discharges comply with the applicable provisions of sections 208(e), 301, 302, 306 and 307 of the Clean Water Act, and that the general permits are in compliance with the Standards of the Alaska Coastal Management Program.

Regulatory Flexibility Act

Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA.

Dated: June 9, 2004.
Robert R. Robichaud,
Associate Director, Office of Water, Region 10.

[FR Doc. 04-13935 Filed 6-18-04; 8:45 am]

BILLING CODE 6560-50-P